ENVIRONMENTAL PROTECTION AGENCY

[FRL-6575-8]

Effluent Guidelines Task Force Open Meeting

AGENCY: Environmental Protection Agency.

ACTION: Notice of meeting.

SUMMARY: The Effluent Guidelines Task Force, an EPA advisory committee, will hold a meeting to discuss the Agency's Effluent Guidelines Program. The meeting is open to the public.

DATES: The meeting will be held on Wednesday, May 24, 2000 from 9 a.m. to 5 p.m., and Thursday, May 25, 2000 from 8:30 a.m. to 3 p.m.

ADDRESSES: The meeting will take place at the Hotel Washington, 515 15th Street, NW, Washington, DC.

FOR FURTHER INFORMATION CONTACT: Beverly Randolph, Office of Water (4303), U.S. EPA, 1200 Pennsylvania Avenue, NW, Washington, DC 20460; telephone (202) 260-5373; fax (202) 260-7185.

SUPPLEMENTARY INFORMATION: Pursuant to the Federal Advisory Committee Act (Pub. L. 92-463), the Environmental Protection Agency gives notice of a meeting of the Effluent Guidelines Task Force (EGTF). The EGTF is a subcommittee of the National Advisory Council for Environmental Policy and Technology (NACEPT), the external policy advisory board to the Administrator of EPA.

The EGTF was established in July of 1992 to advise EPA on the Effluent Guidelines Program, which develops regulations for dischargers of industrial wastewater pursuant to Title III of the Clean Water Act (33 U.S.C. 1251 et seq.). The Task Force consists of members appointed by EPA from industry, citizen groups, state and local government, the academic and scientific communities, and EPA regional offices. The Task Force was created to offer advice to the Administrator on the long-term strategy for the effluent guidelines program, and particularly to provide recommendations on a process for expediting the promulgation of effluent guidelines. The Task Force generally does not discuss specific effluent guideline regulations currently under development.

The meeting is open to the public, and limited seating for the public is available on a first-come, first-served basis. The public may submit written comments to the Task Force regarding improvements to the Effluent Guidelines Program. Comments should be sent to Beverly Randolph at the above address. Comments submitted by May 12, 2000 will be considered by the Task Force at or subsequent to the meeting.

Dated: April 4, 2000.
Geoffrey H. Grubbs,
Director, Office of Science and Technology.

[FR Doc. 00-9545 Filed 4-14-00; 8:45 am]

BILLING CODE 6560-50-P